FEDERAL ELECTION COMMISSION

Sunshine Act; Meeting

Date & Time: Thursday, May 18, 2006 at 10 a.m.

Place: 999 E Street, NW., Washington, DC (Ninth Floor).

Status: This meeting will be open to the public.

Items to be discussed: Correction and approval of minutes.

Advisory Opinion 2006-15: TransCanada Corporation by counsel, Jonathan D. Simon. Routine Administrative Matters.

FOR FURTHER INFORMATION CONTACT: Mr. Robert Biersack, Press Officer, Telephone: (202) 694-1220.

Mary W. Dove,
Secretary of the Commission.

[FR Doc. 06-4581 Filed 5-11-06; 2:34 pm]

BILLING CODE 6715-01-M